AGENCY FOR INTERNATIONAL DEVELOPMENT

Board for International Food and Agricultural Development; Notice of Meeting

Pursuant to the Federal Advisory Committee Act, notice is hereby given of the public meeting of the Board for International Food and Agricultural Development (BIFAD). The meeting will be held from 8:30 a.m. to 12:35 p.m. on Thursday, January, 30 2014 at the Ronald Reagan Building's Horizon Ballroom located at 1300 Pennsylvania Ave. NW., Washington, DC. The central theme of this year's meeting will be “Higher Education and US University Student Engagement.”

Dr. Brady Deaton, BIFAD Chairman, will preside over the meeting. The public business session will begin promptly at 8:30 a.m. with opening remarks by BIFAD Chair Brady Deaton. The Board will address both old and new business during this time and will hear from USAID, the university community and other experts on progress and mechanisms for advancing programming in agricultural research and capacity development. During the business session the BIFAD will host a panel of key authors who will discuss trends in funding for Higher Education—Strategy, Partnerships and Programs, moderated by BIFAD member Harold Martin. During this session the BIFAD will receive updates from USAID on its Feed the Future Innovation Labs and the Higher Education Solutions Network as well as a report on African Higher Education.

Starting at 10:15 a.m., BIFAD member Marty McVey will chair a panel on “Updates from USAID.” The purpose shall be to learn about any new or ongoing activities related to higher education and U.S. university student engagement from the Bureau for Food Security's senior leadership.

The final panel session, which will be again chaired by BIFAD Chairman Dr. Brady Deaton will focus on “U.S. University Engagement in Global Food Security.” This panel will have significant representation from the U.S. university community to address these issues.

Between 11:30 a.m. and 12:00 p.m. time for public questions and comments will be allowed, followed quickly by the BIFAD Award for Scientific Excellence in a Title XII Innovation Lab. Finally, closing remarks will occur from 12:35pm to 12:45pm by BIFAD Chairman Brady Deaton.

Those wishing to attend the meeting or obtain additional information about BIFAD should contact Susan Owens, Executive Director and Designated Federal Officer for BIFAD. Interested persons may write to her in care of the U.S. Agency for International Development, Ronald Reagan Building, Bureau for Food Security, 1300 Pennsylvania Avenue NW., Room 2.09-067, Washington, DC 20523-2110 or telephone her at (202) 712-0218.

Susan Owens,
USAID Designated Federal Officer, BIFAD, Bureau for Food Security, U.S. Agency for International Development.

[FR Doc. 2014-00829 Filed 1-16-14; 8:45 am]

BILLING CODE P